DEPARTMENT OF ENERGY

Federal Energy Regulatory Commission

Combined Notice of Filings #1

Take notice that the Commission received the following electric corporate filings:

Docket Numbers: EC17-114-000.

Applicants: Wisconsin Public Service Corporation.

Description: Application for Approval of Transaction Under Section 203(A)(1)(B) of the Federal Power Act and Request for an Order Within 30 Days of Wisconsin Public Service Corporation.

Filed Date: 5/9/17.

Accession Number: 20170509-5171.

Comments Due: 5 p.m. ET 5/30/17.

Take notice that the Commission received the following exempt wholesale generator filings:

Docket Numbers: EG17-106-000.

Applicants: Rock Creek Wind Project, LLC.

Description: Notice Self-Certification of Exempt Wholesale Generator Status of Rock Creek Wind Project, —LLC.

Filed Date: 5/9/17.

Accession Number: 20170509-5149.

Comments Due: 5 p.m. ET 5/30/17.

Take notice that the Commission received the following electric rate filings:

Docket Numbers: ER17-912-001.

Applicants: Arizona Public Service Company.

Description: Compliance filing: Compliance Filing—Attachment H Tariff with Approved Revised Protocols to be effective 6/1/2017.

Filed Date: 5/10/17.

Accession Number: 20170510-5053.

Comments Due: 5 p.m. ET 5/31/17.

Docket Numbers: ER17-1580-000.

Applicants: Louisiana Generating LLC.

Description: Request of Louisiana Generating LLC to recover costs associated with acting as a Local Balancing Authority under MISO Tariff.

Filed Date: 5/9/17.

Accession Number: 20170509-5169.

Comments Due: 5 p.m. ET 5/30/17.

Docket Numbers: ER17-1581-000.

Applicants: Florida Power & Light Company.

Description: § 205(d) Rate Filing: FPL, JEA, and FPUC-IA for Nassau ? Oneil ? FPUC Stepdown Substations to be effective 5/11/2017.

Filed Date: 5/10/17.

Accession Number: 20170510-5067.

Comments Due: 5 p.m. ET 5/31/17.

Take notice that the Commission received the following foreign utility company status filings:

Docket Numbers: FC17-1-000.

Applicants: Vale S.A.

Description: Notification of Self-Certification of Foreign Utility Company Status of Vale S.A.

Filed Date: 5/9/17.

Accession Number: 20170509-5148.

Comments Due: 5 p.m. ET 5/30/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2017.
Kimberly D. Bose,
Secretary.

[FR Doc. 2017-09939 Filed 5-16-17; 8:45 am]

BILLING CODE 6717-01-P